DEPARTMENT OF AGRICULTURE

Forest Service

Proposed Recreation Fee Sites

AGENCY: Forest Service, Agriculture (USDA).

ACTION: Notice.

SUMMARY: The Inyo National Forest is proposing to establish several recreation fee sites. Proposed recreation fees collected at the proposed recreation fee sites would be used for operation, maintenance, and improvement of the sites. An analysis of nearby recreation fee sites with similar amenities shows that the proposed recreation fees that would be charged at the proposed recreation fee sites are reasonable and typical of similar recreation fee sites in the area.

DATES: If approved, the proposed recreation fee sites and proposed recreation fees would be established no earlier than six months following the publication of this notice in the Federal Register.

ADDRESSES: Inyo National Forest, Attention: Recreation Fees, 351 Pacu Lane, Suite 200, Bishop, CA 93514.

FOR FURTHER INFORMATION CONTACT: Andrew Kennedy, Forest Recreation Officer, (760) 920-3522, andrew.kennedy@usda.gov.

SUPPLEMENTARY INFORMATION: The Federal Lands Recreation Enhancement Act (16 U.S.C. 6803(b)) requires the Forest Service to publish in the Federal Register a six-month advance notice before establishment of proposed recreation fee sites. In accordance with Forest Service Handbook 2309.13, chapter 30, the Forest Service will publish the proposed recreation fee sites and proposed recreation fees in local newspapers and other local publications for public comment. At least 80% of the proposed recreation fees would be spent where they are collected to enhance the visitor experience at the proposed recreation fee sites.

A proposed expanded amenity recreation fee of $20 per night and $5 extra vehicle fee would be charged for Hartley Springs, Grandview, Upper Deadman, and Lower Deadman Campgrounds. A proposed expanded amenity recreation fee of $25 per night and $5 extra vehicle fee would be charged for Glass Creek and Big Springs Campgrounds.

Fee revenue would be used to enhance recreation opportunities, improve customer service, and address maintenance needs.

Once public involvement is complete, the proposed recreation fee sites and proposed recreation fees will be reviewed by a Recreation Resource Advisory Committee prior to a final decision and implementation. Reservations for campgrounds and cabins can be made online at www.recreation.gov or by calling 877-444-6777. Reservations would cost $8.00 per reservation. The $8.00 reservation fee is a transaction fee charged by the recreation.gov reservation platform and is not a Forest Service recreation fee under the Federal Lands Recreation Enhancement Act. This transaction fee is retained by the service provider to support the cost of the reservation system.

Lisa Northrop,
Associate Deputy Chief State, Private and Tribal Forestry, National Forest System.

[FR Doc. 2025-15805 Filed 8-18-25; 8:45 am]

BILLING CODE 3411-15-P